DEPARTMENT OF HEALTH AND HUMAN SERVICES

Centers for Medicare & Medicaid Services

[CMS-4060-N]

Medicare Program; Town Hall Meeting on the Refinement of the Minimum Data Set (MDS), Version 3.0

AGENCY: Centers for Medicare & Medicaid Services (CMS), HHS.

ACTION: Notice of meeting.

SUMMARY: This notice announces a town hall meeting to allow the public to discuss and give general comments about the revisions to the Minimum Data Set, version 3.0. Specifically, the meeting will attempt to elicit the individual comments and experiences of nursing home providers, consumers, resident advocates, and provider groups related to proposed revisions to the Minimum Data Set; to solicit recommendations on how to continue to improve the instrument and to seek ideas to reduce burden. Beneficiaries, providers, physicians, nursing home staff and industry representatives, MDS specialists, and other interested parties are invited to this meeting to present their individual views about the instrument and to learn about plans for revision of the instrument, the user's manual, care planning protocols and accompanying software. The meeting is open to the public.

DATES: Meeting Date: The town hall meeting announced in this notice will be held on Monday, June 2, 2003, from 12:30 p.m. to 4 p.m. eastern daylight saving time.

ADDRESSES: The town hall meeting will be held in the auditorium at the Centers for Medicare & Medicaid Services, 7500 Security Boulevard, Baltimore, MD 21244. Directions are available at http://www.cms.hhs.gov.

FOR FURTHER INFORMATION CONTACT: Bob Connolly 410-786-6882 or Rita Shapiro 410-786-2177. You may also send comments or inquiries about this meeting via e-mail to mds30comments@cms.hhs.gov.

SUPPLEMENTARY INFORMATION:

I. Background

Amidst growing interest and concern about quality in nursing homes during the early 1980s, the Congress and the Department of Health and Human Services (DHHS), in 1983, commissioned an important study on nursing home quality to be conducted by the Institute of Medicine (IoM). The IoM study, “Improving the Quality of Care in Nursing Homes” (1986), reported widespread quality of care problems and recommended the strengthening of Federal regulations for nursing homes. Shortly thereafter, the Congress passed the Omnibus Reconciliation Act of 1987, which required the Secretary to develop a standardized instrument to provide information on resident status that would assist facilities in assessing resident needs and strengths and in developing appropriate care planning. In 1990, we developed the Resident Assessment Instrument (RAI), a standardized assessment instrument required for all residents in Medicare and Medicaid certified nursing homes. The RAI includes the Minimum Data Set (MDS), a set of resident status information collected periodically on every resident living in certified nursing homes. In 1995, we released a second-generation instrument, known as the MDS version 2.0. Version 2.0 was implemented in most homes in 1996. Our longstanding intention to computerize the MDS was fulfilled in 1998 when we funded the development of an infrastructure for automating the transmission of MDS data. Beginning on June 22, 1998, all certified long term care facilities were required to begin transmitting encoded MDS 2.0 data to States. States are also required to transmit these MDS records to a central repository we established.

The original MDS and its subsequent enhanced versions (for example, the quarterly MDS, the Medicare Prospective Payment Assessment Form, and the discharge tracking form) have been integral to the development and implementation of the Medicare prospective payment system as well as approaches to the measurement and improvement of health care outcomes (quality of care) in nursing homes. For example, the Nursing Home Public Reporting Quality Initiative relies on quality measures derived from information submitted by every nursing home using the MDS. In addition, State survey and certification of nursing homes has been refined through the use of MDS-derived quality indicators which can flag resident outcomes that require further investigation by the State surveyor which helps focus the onsite review process to better identify quality of care problems.

While the MDS has revolutionized the way we assess and monitor nursing home care, the MDS was developed over a decade ago and, therefore, requires some revisions to incorporate advances in care. In addition, the MDS tool was originally designed for a long-stay, custodial care population and some items are also relevant to short stay residents. Since its development, the nursing home industry has experienced an increase in the number of short-stay, rehabilitation-intensive admissions as well as a number of homes that specialize in distinct populations such as pediatrics residents whose unique care needs are not perfectly captured by the MDS 2.0. Finally, we have expanded our relationship with external groups with the goal of creating an instrument that can be used to complement current nursing home paper work rather than duplicating efforts already undertaken by nursing home staff in their effort to properly assess and manage their population.

We have contracted to complete validation testing of the MDS 3.0 items by December 2004. Feedback from the Town Hall meeting will be used to advise the validation process and provide us with important information regarding clinical improvements and provider burden. To be considered to make formal comments, commenters must follow the registration procedures described in the DATES, ADDRESSES, and Registration Instructions sections of this notice.

II. Meeting Format

The meeting will begin with an overview of the goals of the meeting, a review of the feedback received to date and how this feedback has been translated into changes to the draft MDS version 3.0. The timeline for revisions to the MDS 3.0 and plans for implementation will be discussed as well as the plans for evaluating the new instrument prior to its release. The implications of the revised instrument on various CMS operations, including survey and certification of nursing homes, public reporting of quality measures, the resource utilization groups and prospective payment system, software and data transmission, and care planning using the Resident Assessment Protocols (RAPs) will be discussed. The validation contractor will be introduced and a formal moderator will facilitate the meeting. We request written comments prior to the meeting and will entertain public comments from consumers, providers, provider and professional organizations from the Baltimore audience and Regional Office teleconferencing participants. Comments are requested about MDS 3.0, its content, and ways to further reduce the burden of MDS data collection. Comments can address the implications of the revised instrument such as impacts on payment, survey processes, quality indicators, publicly reported quality measures, resident assessment protocols, RAVEN and information technologies, item-by-item comments on new MDS 3.0 items or deletions of current MDS 2.0 items. Information from this Town Hall Meeting will be used to advise the work of the validation contractor.

On April 3, 2003, a draft version of the MDS 3.0 instrument was posted to the following Web site: http://www.cms.hhs.gov/providers/nursinghomes/nhi. Beginning on or about May 19, 2003 information about the MDS 3.0 town hall meeting will be posted at the same Web site address and interested parties will find an agenda for the meeting and handouts to be used during the discussions.

We will limit the time for participants to make formal statements according to the number of registered participants and the number of written comments. Individuals who wish to make formal statements must contact Bob Connolly or Rita Shapiro as soon as possible. Those individuals must subsequently submit their formal statement in writing no later than 5 p.m., Friday, May 23, 2003. Send written submissions to: Rita Shapiro, Division of Ambulatory and Post Acute Care (DAPAC), Centers for Medicare & Medicaid Services, 7500 Security Boulevard, Mail Stop S3-02-01, Baltimore, Maryland 21244 or mds30comments@cms.hhs.gov. Open microphone town hall segments will provide opportunities for comments from individuals not registered to speak on the day of the meeting.

III. Registration Instructions

The Division of Acute and Post Acute Care is coordinating meeting registration. While there is no registration fee, all individuals must register to attend. Because this meeting will be located on Federal property, for security reasons, any persons wishing to attend this meeting must call Bob Connolly or Rita Shapiro or e-mail mds30comments@cms.hhs.gov to register by close of business on May 27, 2003. Attendees must show photographic identification to the Federal Protective Service or Guard Service personnel before they will be permitted to enter the building. Individuals who have not registered in advance will not be allowed to enter the building to attend the meeting. Seating capacity is limited to the first 250 registrants. Our Atlanta, Boston, Chicago, Dallas, Denver, Kansas City, New York, Philadelphia, San Francisco, and Seattle, regional offices will host a Satellite Broadcast of the meeting for participants wanting to participate at these locations. These teleconference lines will be allotted on a first come, first serve basis.

Individuals requiring sign language interpretation for the hearing impaired or other special accommodations should contact Bob Connolly or Rita Shapiro at least 10 days before the meeting.

Authority: Sections 1102 and 1871 of the Social Security Act (42 U.S.C. 1302 and 1395hh)

(Catalog of Federal Domestic Assistance Program No. 93.773, Medicare—Hospital Insurance; and Program No. 93.774, Medicare—Supplementary Medical Insurance Program)
Dated: May 12, 2003.
Thomas A. Scully,
Administrator, Centers for Medicare & Medicaid Services.

[FR Doc. 03-12229 Filed 5-15-03; 8:45 am]

BILLING CODE 4120-01-P